DEPARTMENT OF ENERGY

[Docket No. 2007-OE-01, Mid-Atlantic Area National Interest Electric Transmission Corridor; Docket No. 2007-OE-02, Southwest Area National Interest Electric Transmission Corridor]

National Interest Electric Transmission Corridor Designation Orders

AGENCY: Office of Electricity Delivery and Energy Reliability (DOE).

ACTION: Notice of orders granting rehearing.

SUMMARY: The Department of Energy (DOE) is granting rehearing to all timely-filed requests for rehearing by parties to the proceedings for designating the Mid-Atlantic Area National Electric Transmission Corridor (Docket No. 2007-OE-01) and the Southwest Area National Electric Transmission Corridor (Docket No. 2007-OE-02) for the limited purpose of further consideration of the requests.

FOR FURTHER INFORMATION CONTACT: Requests for additional information should be directed to David Meyer, DOE Office of Electricity Delivery and Energy Reliability, (202) 586-1411, david.meyer@hq.doe.gov. For legal information, contact Lot Cooke, DOE Office of the General Counsel, (202) 586-0503, lot.cooke@hq.doe.gov.

SUPPLEMENTARY INFORMATION: On October 5, 2007 (72 FR 56992), DOE issued a National Electric Transmission Congestion Report and Order in which it designated the Mid-Atlantic Area National Interest Electric Transmission Corridor (Docket No. 2007-OE-01) and the Southwest Area National Interest Electric Transmission Corridor (Docket No. 2007-OE-02). DOE received and is considering numerous requests for rehearing. This Notice contains two orders issued in Washington, DC, on December 3, 2007, granting rehearing to all timely-filed requests for rehearing in the above dockets for the limited purpose of further consideration.

Patricia A. Hoffman,
Principal Deputy Assistant Secretary, Office of Electricity Delivery and Energy Reliability.

United States of America; Department of Energy

Mid-Atlantic Area National Interest Electric Transmission Corridor

[Docket No. 2007-OE-01]

Order Granting Rehearing for Further Consideration

The Department of Energy (DOE) issued a National Electric Transmission Congestion Report and Order in the above docket in which it designated the Mid-Atlantic Area National Interest Electric Transmission Corridor (72 FR 56992, Oct. 5, 2007).

Rehearing has been timely requested of DOE's Report and Order. In order to afford additional time for consideration of the matters raised in the rehearing requests, rehearing of DOE's Report and Order is hereby granted to all timely-filed requests for rehearing by parties to the above docket for the limited purpose of further consideration. All rehearing requests filed in the above docket will be addressed in a future order or orders. As provided in Ordering Paragraph E of the Report and Order, DOE will not accept responses to requests for rehearing.

Patricia A. Hoffman,

Principal Deputy Assistant Secretary, Office of Electricity Delivery and Energy Reliability.

United States of America, Department of Energy

Southwest Area National Interest, Electric Transmission Corridor

[Docket No. 2007-OE-02]

Order Granting Rehearing for Further Consideration

The Department of Energy (DOE) issued a National Electric Transmission Congestion Report and Order in the above docket in which it designated the Southwest Area National Interest Electric Transmission Corridor (72 FR 56992, Oct. 5, 2007).

Rehearing has been timely requested of DOE's Report and Order. In order to afford additional time for consideration of the matters raised in the rehearing requests, rehearing of DOE's Report and Order is hereby granted to all timely-filed requests for rehearing by parties to the above docket for the limited purpose of further consideration. All rehearing requests filed in the above docket will be addressed in a future order or orders. As provided in Ordering Paragraph E of the Report and Order, DOE will not accept responses to requests for rehearing.

Patricia A. Hoffman,

Principal Deputy Assistant Secretary, Office of Electricity Delivery and Energy Reliability.

[FR Doc. E7-23809 Filed 12-6-07; 8:45 am]

BILLING CODE 6450-01-P